DEPARTMENT OF TRANSPORTATION

Federal Aviation Administration

14 CFR Part 97

[Docket No. 31118; Amdt. No. 3733]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective February 10, 2017. The compliance date for each SIAP, associated Takeoff Minimums, and ODP is specified in the amendatory provisions.

The incorporation by reference of certain publications listed in the regulations is approved by the Director of the Federal Register as of February 10, 2017.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part § 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC on January 27, 2017.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 2 March 2017

Alexander City, AL, Thomas C Russell Fld, NDB-A, Amdt 2, CANCELED

Birmingham, AL, Birmingham-Shuttlesworth Intl, ILS OR LOC RWY 6, ILS RWY 6 (CAT II), Amdt 42B

Birmingham, AL, Birmingham-Shuttlesworth Intl, ILS OR LOC RWY 24, Amdt 3B

Birmingham, AL, Birmingham-Shuttlesworth Intl, RNAV (GPS) RWY 36, Amdt 1C

Birmingham, AL, Birmingham-Shuttlesworth Intl, RNAV (GPS) Y RWY 24, Amdt 3A

Grass Valley, CA, Nevada County Air Park, RNAV (GPS) RWY 7, Orig

Los Angeles, CA, Los Angeles Intl, ILS OR LOC RWY 24R, ILS RWY 24R (CAT II), ILS RWY 24R (CAT III), Amdt 25

Los Angeles, CA, Los Angeles Intl, ILS OR LOC RWY 25L, ILS RWY 25L (CAT II), ILS RWY 25L (CAT III), Amdt 14

Los Angeles, CA, Los Angeles Intl, RNAV (GPS) Y RWY 24R, Amdt 2

Los Angeles, CA, Los Angeles Intl, RNAV (GPS) Y RWY 25L, Amdt 4

Los Angeles, CA, Los Angeles Intl, RNAV (RNP) Z RWY 24R, Amdt 1

Los Angeles, CA, Los Angeles Intl, RNAV (RNP) Z RWY 25L, Amdt 2

Akron, CO, Colorado Plains Rgnl, RNAV (GPS) RWY 11, Amdt 2

Akron, CO, Colorado Plains Rgnl, RNAV (GPS) RWY 29, Amdt 1

Saipan Island, CQ, Francisco C Ada/Saipan Intl, ILS OR LOC RWY 7, Amdt 6

Saipan Island, CQ, Francisco C Ada/Saipan Intl, NDB RWY 25, Amdt 3

Saipan Island, CQ, Francisco C Ada/Saipan Intl, NDB Y RWY 7, Amdt 6

Saipan Island, CQ, Francisco C Ada/Saipan Intl, NDB Z RWY 7, Amdt 4

Saipan Island, CQ, Francisco C Ada/Saipan Intl, RNAV (GPS) RWY 7, Amdt 1

Saipan Island, CQ, Francisco C Ada/Saipan Intl, RNAV (GPS) RWY 25, Amdt 1

Fort Pierce, FL, Treasure Coast Intl, ILS OR LOC RWY 10R, Amdt 4C

Fort Pierce, FL, Treasure Coast Intl, RNAV (GPS) RWY 10R, Amdt 2C

Augusta, GA, Daniel Field, RADAR RWY 11—Orig, CANCELED

Augusta, GA, Daniel Field, RADAR RWY 29—Orig, CANCELED

Columbus, GA, Columbus, RNAV (GPS) RWY 6, Orig-B

Sheldon, IA, Sheldon Muni, NDB RWY 33, Amdt 7, CANCELED

Chicago, IL, Chicago O'Hare Intl, LOC RWY 4L, Amdt 22A, CANCELED

Olney-Noble, IL, Olney-Noble, LOC RWY 11, Amdt 6

Atchison, KS, Amelia Earhart, VOR/DME RNAV OR GPS RWY 16, Amdt 4B, CANCELED

Leesville, LA, Leesville, NDB RWY 36, Amdt 2A, CANCELED

Marksville, LA, Marksville Municipal, NDB RWY 4, Amdt 2, CANCELED

Easton, MD, Easton/Newnam Field, ILS OR LOC RWY 4, Amdt 2

Easton, MD, Easton/Newnam Field, RNAV (GPS) RWY 4, Amdt 1

Grand Marais, MN, Grand Marais/Cook County, NDB RWY 28, Amdt 1

Grand Marais, MN, Grand Marais/Cook County, Takeoff Minimums and Obstacle DP, Amdt 1

Minneapolis, MN, Minneapolis-St Paul Intl/Wold-Chamberlain, RNAV (RNP) Y RWY 30R, Amdt 1A

Concord, NH, Concord Muni, ILS OR LOC RWY 35, Amdt 1C

Concord, NH, Concord Muni, RNAV (GPS) RWY 12, Orig-C

Concord, NH, Concord Muni, RNAV (GPS) RWY 17, Orig-C

Concord, NH, Concord Muni, RNAV (GPS) RWY 35, Orig-C

Laconia, NH, Laconia Muni, ILS OR LOC RWY 8, Amdt 1B

Laconia, NH, Laconia Muni, NDB RWY 8, Amdt 9B

Laconia, NH, Laconia Muni, RNAV (GPS) RWY 26, Orig-B

Manchester, NH, Manchester, ILS OR LOC RWY 6, Amdt 2A

Manchester, NH, Manchester, ILS OR LOC RWY 35, ILS RWY 35 (SA CAT I), ILS RWY 35 (CAT II), ILS RWY 35 (CAT III), Amdt 2A

Manchester, NH, Manchester, ILS OR LOC/DME RWY 17, Amdt 2B

Manchester, NH, Manchester, RNAV (GPS) RWY 6, Amdt 2A

Manchester, NH, Manchester, RNAV (GPS) RWY 24, Amdt 1A

Manchester, NH, Manchester, RNAV (GPS) Y RWY 17, Amdt 1A

Albuquerque, NM, Albuquerque Intl Sunport, VOR RWY 8, Amdt 21

New York, NY, John F Kennedy Intl, ILS OR LOC RWY 31L, Amdt 11

New York, NY, John F Kennedy Intl, ILS OR LOC RWY 31R, Amdt 16

New York, NY, LaGuardia, RNAV (GPS) RWY 13, Orig

Beach City, OH, Beach City, Takeoff Minimums and Obstacle DP, Orig, CANCELED

Beach City, OH, Beach City, VOR OR GPS-A, Amdt 1, CANCELED

Tulsa, OK, Richard Lloyd Jones Jr, ILS OR LOC RWY 1L, Amdt 2

Tulsa, OK, Richard Lloyd Jones Jr, RNAV (GPS) RWY 1L, Amdt 1

Tulsa, OK, Richard Lloyd Jones Jr, RNAV (GPS) RWY 19R, Amdt 1

Pageland, SC, Pageland, RNAV (GPS) RWY 6, Orig

Pageland, SC, Pageland, RNAV (GPS) RWY 24, Orig

Murfreesboro, TN, Murfreesboro Muni, Takeoff Minimums and Obstacle DP, Amdt 3A

Union City, TN, Everett-Stewart Rgnl, RNAV (GPS) RWY 1, Amdt 4A

Union City, TN, Everett-Stewart Rgnl, RNAV (GPS) RWY 19, Amdt 2A

Fort Worth, TX, Fort Worth Alliance, RNAV (GPS) RWY 16R, Amdt 1

Harlingen, TX, Valley Intl, RNAV (GPS) Y RWY 31, Amdt 3

Harlingen, TX, Valley Intl, RNAV (RNP) Z RWY 31, Amdt 1

Harlingen, TX, Valley Intl, VOR Z RWY 31, Amdt 1

San Antonio, TX, San Antonio Intl, ILS OR LOC RWY 4, Amdt 22B

San Antonio, TX, San Antonio Intl, ILS OR LOC RWY 13R, ILS RWY 13R (CAT II), Amdt 14C

San Antonio, TX, San Antonio Intl, ILS OR LOC RWY 31L, Amdt 10C

San Antonio, TX, San Antonio Intl, RNAV (GPS) Y RWY 4, Amdt 3B

San Antonio, TX, San Antonio Intl, RNAV (GPS) Y RWY 13R, Amdt 1B

San Antonio, TX, San Antonio Intl, RNAV (GPS) Y RWY 22, Amdt 2B

San Antonio, TX, San Antonio Intl, RNAV (GPS) Y RWY 31L, Amdt 1B

San Antonio, TX, San Antonio Intl, RNAV (RNP) Z RWY 4, Orig-C

San Antonio, TX, San Antonio Intl, RNAV (RNP) Z RWY 13R, Orig-C

San Antonio, TX, San Antonio Intl, RNAV (RNP) Z RWY 22, Amdt 1B

San Antonio, TX, San Antonio Intl, RNAV (RNP) Z RWY 31L, Orig-B

Weslaco, TX, Mid Valley, GPS RWY 13, Orig-B, CANCELED

Weslaco, TX, Mid Valley, RNAV (GPS) RWY 14, Orig

Weslaco, TX, Mid Valley, Takeoff Minimums and Obstacle DP, Amdt 1

Suffolk, VA, Suffolk Executive, LOC RWY 4, Amdt 5

Suffolk, VA, Suffolk Executive, RNAV (GPS) RWY 4, Amdt 4

Suffolk, VA, Suffolk Executive, RNAV (GPS) RWY 7, Amdt 1C

Suffolk, VA, Suffolk Executive, RNAV (GPS) RWY 22, Amdt 2

Suffolk, VA, Suffolk Executive, RNAV (GPS) RWY 25, Amdt 1B

Eagle River, WI, Eagle River Union, LOC/DME RWY 4, Orig-B

Eagle River, WI, Eagle River Union, RNAV (GPS) RWY 4, Orig-A

Eagle River, WI, Eagle River Union, RNAV (GPS) RWY 22, Orig-A

Eagle River, WI, Eagle River Union, VOR/DME RWY 4, Amdt 1B

Manitowish Waters, WI, Manitowish Waters, RNAV (GPS) RWY 14, Amdt 1

Manitowish Waters, WI, Manitowish Waters, RNAV (GPS) RWY 32, Amdt 1

Rhinelander, WI, Rhinelander-Oneida County, ILS OR LOC RWY 9, Amdt 8C

Rhinelander, WI, Rhinelander-Oneida County, RNAV (GPS) RWY 9, Amdt 1C

Rhinelander, WI, Rhinelander-Oneida County, RNAV (GPS) RWY 15, Amdt 1C

Rhinelander, WI, Rhinelander-Oneida County, RNAV (GPS) RWY 27, Amdt 1C

Rhinelander, WI, Rhinelander-Oneida County, RNAV (GPS) RWY 33, Amdt 1B

Rhinelander, WI, Rhinelander-Oneida County, VOR/DME RWY 27, Orig-H

Thermopolis, WY, Hot Springs County, RNAV (GPS) RWY 5, Orig

Thermopolis, WY, Hot Springs County, RNAV (GPS) RWY 23, Orig

Thermopolis, WY, Hot Springs County, Takeoff Minimums and Obstacle DP, Orig

Rescinded: On January 12, 2017 (82 FR 3603), the FAA Published an Amendment in Docket No. 31112, Amdt No. 3727 to Part 97 of the Federal Aviation Regulations Under Section 97.23 and 97.33, the Following Entries for Healy, AK, and Batavia, OH, Effective March 2, 2017, and Are Hereby Rescinded in Their Entirety:

Healy, AK, Healy River, RNAV (GPS) RWY 15, Orig

Healy, AK, Healy River, RNAV (GPS)-A, Orig

Batavia, OH, Clermont County, RNAV (GPS) RWY 4, Amdt 1C

Batavia, OH, Clermont County, RNAV (GPS) RWY 22, Amdt 1D

Batavia, OH, Clermont County, VOR-B, Amdt 7C

[FR Doc. 2017-02491 Filed 2-9-17; 8:45 am]

BILLING CODE 4910-13-P